DEPARTMENT OF TRANSPORTATION

Federal Aviation Administration

14 CFR Part 71

[Docket No. FAA-2005-20643; Airspace Docket No. 05-AAL-13]

Proposed Establishment of Class D Airspace; and Modification of Class E Airspace; Big Delta, Allen AAF Airport, AK

AGENCY: Federal Aviation Administration (FAA), DOT.

ACTION: Notice of proposed rulemaking.

SUMMARY: This action proposes to establish Class D airspace, and to revise Class E airspace at Big Delta, Allen Army Airfield (AAF) Airport on Ft. Greeley, Alaska. The Department of the Army is proposing to establish an Airport Traffic Control Tower (ATCT) at Allen AAF Airport to support operations of the U. S. Army Space and Missile Defense Command. The intended effect of this action is to enhance safety and security by providing air traffic control services to an expected increase in aircraft operating at the airport due to an expanded homeland security mission at Ft. Greeley. New Class D airspace is required to provide ATCT services. Expanded Class E airspace is needed to contain aircraft executing instrument approach and departure procedures and to align with the proposed Class D airspace.

DATES: Comments must be received on or before June 2, 2005.

ADDRESSES: Send comments on the proposal to the Docket Management System, U.S. Department of Transportation, Room Plaza 401, 400 Seventh Street, SW., Washington, DC 20590-0001. You must identify the docket number FAA-2005-20643/Airspace Docket No. 05-AAL-13, at the beginning of your comments. You may also submit comments on the Internet at http://dms.dot.gov. You may review the public docket containing the proposal, any comments received, and any final disposition in person in the Dockets Office between 9 a.m. and 5 p.m., Monday through Friday, except Federal holidays. The Docket Office (telephone 1-800-647-5527) is on the plaza level of the Department of Transportation NASSIF Building at the above address.

An informal docket may also be examined during normal business hours at the office of the Manager, Safety, Alaska Flight Services Operations, Federal Aviation Administration, 222 West 7th Avenue, Box 14, Anchorage, AK 99513-7587.

FOR FURTHER INFORMATION CONTACT: Jesse Patterson, AAL-538G, Federal Aviation Administration, 222 West 7th Avenue, Box 14, Anchorage, AK 99513-7587; telephone number (907) 271-5898; fax: (907) 271-2850; e-mail: Jesse.CTR.Patterson@faa.gov. Internet address: http://www.alaska.faa.gov/at.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2005-20643/Airspace Docket No. 05-AAL-13.” The postcard will be date/time stamped and returned to the commenter.

All communications received on or before the specified closing date for comments will be considered before taking action on the proposed rule. The proposal contained in this notice may be changed in light of comments received. All comments submitted will be available for examination in the public docket both before and after the closing date for comments. A report summarizing each substantive public contact with FAA personnel concerned with this rulemaking will be filed in the docket.

Availability of Notice of Proposed Rulemaking's (NPRM's)

An electronic copy of this document may be downloaded through the Internet at http://dms.dot.gov. Recently published rulemaking documents can also be accessed through the FAA's Web page at http://www.faa.gov or the Superintendent of Document's Web page at http://www.access.gpo.gov/nara.

Additionally, any person may obtain a copy of this notice by submitting a request to the Federal Aviation Administration, Office of Air Traffic Airspace Management, ATA-400, 800 Independence Avenue, SW., Washington, DC 20591 or by calling (202) 267-8783. Communications must identify both docket numbers for this notice. Persons interested in being placed on a mailing list for future NPRM's should contact the FAA's Office of Rulemaking, (202) 267-9677, to request a copy of Advisory Circular No. 11-2A, Notice of Proposed Rulemaking Distribution System, which describes the application procedure.

The Proposal

The FAA is considering an amendment to the Code of Federal Regulations (14 CFR Part 71), by adding Class D airspace and revising Class E airspace at Big Delta, Allen AAF Airport, at Ft. Greeley, Alaska. The intended effect of this proposal is to revise Class E airspace to contain aircraft in controlled airspace for Instrument Flight Rules (IFR) operations; and to establish Class D airspace for the proposed Allen AAF ATCT to provide airport traffic control services to an expected increase in air traffic with the expanded role of Ft. Greeley in homeland security.

The United States Army Space and Missile Defense Command is the managing agency for Allen AAF Airport. They plan to reopen the Allen AAF ATCT by October, 2005. Class D airspace will be needed for the control of airport traffic when the ATCT opens. The United States Army is taking this action in order to accommodate an expected increase in air traffic, now and in the future, as well as to address security concerns surrounding significant national defense installations at Ft. Greeley.

The new proposed Class D airspace would not impact the ability of VFR aircraft to utilize the flight corridors along the Richardson and Alaska Highways, but will require that pilots of aircraft using these flight corridors below 2,500 above ground level (AGL) contact the Allen AAF Airport ATCT on the appropriate frequency in accordance with Title 14, CFR 91.129. The operation of Restricted Area 2202 A, B, and C will not be affected by this action.

Class E airspace at and above 700 feet AGL is proposed to be expanded to ensure that aircraft executing instrument flight rules (IFR) approaches and departures are contained within controlled airspace. The Class E Surface Area is proposed to be expanded to align with the new Class D airspace. The extension to the Northeast of the Class E Surface Area would be realigned to extend from the revised boundary of the Class E Surface Area.

The area would be depicted on aeronautical charts for pilot reference. The coordinates for this airspace docket are based on North American Datum 83. The Class D airspace area designations are published in paragraph 5000 of FAA Order 7400.9M, Airspace Designations and Reporting Points, dated August 30, 2004, and effective September 16, 2004, which is incorporated by reference in 14 CFR 71.1. The Class E surface areas are published in paragraph 6002, the Class E airspace areas designated as an extensions to a Class D or Class E surface area are published in paragraph 6004, and the Class E airspace areas extending upward from 700 feet or more above the surface are published in paragraph 6005 of the same order. The Class D and Class E airspace designations listed in this document would be published subsequently in the Order.

The FAA has determined that this proposed regulation only involves an established body of technical regulations for which frequent and routine amendments are necessary to keep them operationally current. It, therefore —(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle 1, Section 106 describes the authority of the FAA Administrator. Subtitle VII, Aviation Programs, describes in more detail the scope of the agency's authority.

This rulemaking is promulgated under the authority described in Subtitle VII, Part A, Subpart 1, Section 40103, Sovereignty and use of airspace. Under that section, the FAA is charged with prescribing regulations to ensure the safe and efficient use of the navigable airspace. This regulation is within the scope of that authority because it proposes to establish Class D airspace and expand Class E airspace sufficient to contain aircraft executing instrument operations at Big Delta, Allen AAF Airport and represents the FAA's continuing effort to safely and efficiently use the navigable airspace.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9M, Airspace Designations and Reporting Points, dated August 30, 2004, and effective September 16, 2004, is to be amended as follows:

* * * * *

Paragraph 5000 Class D Airspace

* * * * *

AAL AK D Big Delta, AK [New]

Big Delta, Allen AAF Airport, AK

(Lat. 63°59′40″ N., long. 145°43′18″ W.)

Big Delta VORTAC

(Lat. 64°00′16″ N., long. 145°43′02″ W.)

That airspace extending upward from the surface to and including 3,800 feet MSL within a 6.3-mile radius of the Allen AAF Airport; excluding the portion within the boundary of restricted area 2002A.

* * * * *

Paragraph 6002 Class E Airspace Designated as Surface Area

* * * * *

AAL AK E2 Big Delta, AK [Revised]

Big Delta, Allen AAF Airport, AK

(Lat. 63°59′40″ N., long. 145°43′18″ W.)

Big Delta VORTAC

(Lat. 64°00′16″ N., long. 145°43′02″ W.)

Within a 6.3-mile radius of the Allen AAF Airport; excluding the portion within the boundary of restricted area 2002A

* * * * *

Paragraph 6004 Class E Airspace Designated as an Extension to a Class D or E Surface Area

* * * * *

AAL AK E4 Big Delta, AK [Revised]

Big Delta, Allen AAF Airport, AK

(Lat. 63°59′40″ N., long. 145°43′18″ W.)

Big Delta VORTAC

(Lat. 64°00′16″ N., long. 145°43′02″ W.)

That airspace extending upward from the surface within 3 miles north and 2.6 miles south of the Big Delta VORTAC 039° radial extending from the 6.3-mile radius of the Allen AAF Airport to 10.3 miles northeast of the airport

* * * * *

Paragraph 6005 Class E Airspace Areas Extending Upward from 700 feet of More Above the Surface of the Earth

* * * * *

AAL AK E5 Big Delta, AK [Revised]

Big Delta, Allen AAF Airport, AK

(Lat. 63°59′40″ N., long. 145°43′18″ W.) Big Delta VORTAC

(Lat. 64°00′16″ N., long. 145°43′02″ W.)

That airspace extending upward from 700 feet above the surface within an 8.6-mile radius of the Allen AAF Airport; and within 3 miles north and 2.6 miles south of the Big Delta VORTAC 039° radial extending from the 8.6-mile radius of the Allen AAF Airport to 10.3 miles northeast of the airport.

* * * * *

Issued in Anchorage, AK, on April 6, 2005.
Anthony M. Wylie,
Acting Area Director, Alaska Flight Services Area Office.

[FR Doc. 05-7625 Filed 4-15-05; 8:45 am]

BILLING CODE 4910-13-P